DEPARTMENT OF THE INTERIOR

Bureau of Land Management

[LLNML00000 L12200000.DF0000 18XL1109AF]

Notice of Public Meeting, Las Cruces District Resource Advisory Council, New Mexico

AGENCY: Bureau of Land Management, Interior.

ACTION: Notice of public meeting.

SUMMARY: In accordance with the Federal Land Policy and Management Act of 1976 and the Federal Advisory Committee Act of 1972, the U.S. Department of the Interior, Bureau of Land Management (BLM) Las Cruces District Resource Advisory Council (RAC) will meet as indicated below.

DATES: The BLM Las Cruces District RAC will participate in a field trip on Tuesday, January 30, 2018, from 8:00 a.m. to 4:30 p.m., and hold a public meeting on Wednesday, January 31, 2018, from 9:00 a.m. to 12:00 p.m.

ADDRESSES: The Las Cruces District RAC will meet at the BLM Las Cruces District Office, 1800 Marquess Street, Las Cruces, NM 88001. The field trip participants will depart from the BLM Las Cruces District Office.

FOR FURTHER INFORMATION CONTACT: Deborah Stevens, BLM Las Cruces District, New Mexico, 1800 Marquess Street, Las Cruces, NM 88001, (575) 525-4421. Persons who use a telecommunications device for the deaf (TDD) may contact Ms. Stevens by calling the Federal Relay Service (FRS) at (800) 877-8339. The FRS is available 24 hours a day, 7 days a week, to leave a message or question with Ms. Stevens. You will receive a reply during normal business hours.

SUPPLEMENTARY INFORMATION: The 10-member RAC advises the Secretary of the Interior, through the BLM, on a variety of planning and management issues associated with public land management in New Mexico. The field trip on January 30, 2018, to the northern Potrillo Mountains will introduce the RAC members to the on-the-ground resources located and used by the public in the area. The public should provide their own transportation for the field trip. On January 31, 2018, the meeting agenda will include updates on current and proposed projects in the BLM Las Cruces District, including lands and realty, planning and energy projects; the Tri-County Supplemental Resource Management Plan (RMP); and, the land use planning process in the Las Cruces District. Additional agenda topics or changes to the agenda will be announced in local news releases. More information is available at https://www.blm.gov/site-page/get-involved-rac-new-mexico-lcdo-rac. RAC meetings are open to the public.

Public Disclosure of Comments: The meeting on January 31, 2018, will include a public comment period from 11:00 a.m. to 11:30 a.m. Depending on the number of persons wishing to comment and time available, the amount of time for individual oral comments may be limited. To allow for full consideration of information by the council members, written comments must be provided to Deborah Stevens, BLM Las Cruces District, New Mexico, 1800 Marquess Street, Las Cruces, NM 88001; or by telephone (575) 525-4421, no later than Monday, January 29, 2018. All written comments received will be provided to the council members.

Before including your address, phone number, email address, or other personal identifying information in your comments, please be aware that your entire comment, including your personal identifying information, may be made publicly available at any time. While you can ask us in your comment to withhold your personal identifying information from public review, we cannot guarantee that we will be able to do so.

Individuals who plan to attend and need special assistance, such as sign language interpretation, tour transportation or other reasonable accommodations, should contact the BLM as provided above.

Authority: 43 CFR 1784.4-2.

Melanie Barnes,
Deputy State Director, Lands and Resources.

[FR Doc. 2017-25665 Filed 11-27-17; 8:45 am]

BILLING CODE 4310-FB-P